NUCLEAR REGULATORY COMMISSION

[Docket No. 52-016; NRC-2008-0250]

UniStar Nuclear Energy Combined License Application for Calvert Cliffs Nuclear Power Plant, Unit 3

AGENCY: Nuclear Regulatory Commission.

ACTION: Application for combined license; withdrawal.

SUMMARY: The U.S. Nuclear Regulatory Commission (NRC) is withdrawing the UniStar Nuclear Energy Combined License Application for Calvert Cliffs Nuclear Power Plant, Unit 3. This document is being withdrawn because UniStar requested withdrawal of its application.

DATES: The effective date of the withdrawal of UniStar's combined license application for Calvert Cliffs Nuclear Power Plant, Unit 3 is July 17, 2015.

ADDRESSES: Please refer to Docket ID NRC-2008-0250 when contacting the NRC about the availability of information regarding this document. You may obtain publicly-available information related to this document using any of the following methods:

• Federal Rulemaking Web site: Go to http://www.regulations.gov and search for Docket ID NRC-2008-0250. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Surinder Arora, Office of New Reactors, U.S. Nuclear Regulatory Commission, Washington, DC 20555-0001; telephone: 301-415-1421, email: Surinder.Arora@nrc.gov.

SUPPLEMENTARY INFORMATION: By letter dated July 13, 2007 (ADAMS Accession No. ML071980292), as supplemented by letters, dated March 14, 2008 (ADAMS Accession No(s). ML080990114 and ML080780459) and May 15, 2008 (ADAMS Accession No. ML081410279), UniStar Nuclear (UniStar), submitted an application to the NRC for a combined license (COL) for a single unit of the U.S. Evolutionary Power Reactor (U.S. EPR) in accordance with the requirements contained in part 52, “Licenses, Certifications, and Approvals for Nuclear Power Plants,” of Title 10 of the Code of Federal Regulations (10 CFR). This new reactor was identified as Calvert Cliffs Nuclear Power Plant, Unit 3 (CCNPP3) located in Lusby, in Calvert County, Maryland.

The notices of receipt and availability of the UniStar's COL application were previously published in the Federal Register on August 15, 2007 (72 FR 45832) and May 2, 2008 (73 FR 24321). Subsequently a notice announcing the acceptance for docketing of the partial CCNPP3 COL application in accordance with 10 CFR part 2, “Agency Rules of Practice and Procedure” and 10 CFR part 52 was published in the Federal Register on January 31, 2008 (73 FR 5877). The docket number established for this application was 52-016.

By letter dated February 27, 2015 (ADAMS Accession No. ML15062A050), UniStar requested that the NRC temporarily suspend review of its COL application for CCNPP3 until further notice. The NRC granted the requested suspension. By its recent letter dated June 8, 2015 (ADAMS Accession No. ML15160A570), UniStar requested withdrawal of its CCNPP3 COL application, including the Safeguards/Security part of the application. Pursuant to the requirements in 10 CFR part 2, the Commission grants UniStar its request to withdraw the CCNPP3 COL application.

Dated at Rockville, Maryland, this 13th day of July 2015.
For the Nuclear Regulatory Commission.
Frank Akstulewicz,
Director, Division of New Reactor Licensing, Office of New Reactors.

[FR Doc. 2015-17652 Filed 7-16-15; 8:45 am]

BILLING CODE 7590-01-P